DEPARTMENT OF TRANSPORTATION

National Highway Traffic Safety Administration

49 CFR Parts 571

[Docket No. 00-7145]

RIN No. 2127-AH61

Federal Motor Vehicle Safety Standards; Head Impact Protection

AGENCY: National Highway Traffic Safety Administration (NHTSA), DOT.

ACTION: Notice of proposed rulemaking.

SUMMARY: This document proposes to amend the upper interior impact requirements of Standard No. 201, Occupant Protection in Interior Impact, to modify the minimum distance between certain target points on vertical surfaces inside a vehicle. Compliance with the upper interior impact requirements is determined, in part, by measuring the forces experienced by a test device known as the Free Motion Headform (FMH) when it is propelled into certain target points in the vehicle interior. To ensure that tests conducted within the same vehicle do not affect each other, the standard specifies that tested targets be at least a certain distance apart; currently 150 mm (6 inches). We are proposing to expand this minimum distance to 200 mm (8 inches) for tests performed on certain vertical surfaces in order to alleviate concerns that the current distance is not large enough to prevent FMH impact overlap to nearby target points in the same vehicle. We are also proposing to add target points for pillar-like structures that do not meet the definition of “pillar,” i.e., certain door frames and vertical seat belt mounting structures.

DATES: You should submit your comments early enough to ensure that Docket Management receives them not later than June 5, 2000.

ADDRESS: You should mention the docket number of this document in your comments and submit your comments in writing to: Docket Management, Room PL-401, 400 Seventh Street, SW, Washington, DC, 20590.

You may call the Docket at 202-366-9324. You may visit the Docket from 10 a.m. to 5 p.m., Monday through Friday.

FOR FURTHER INFORMATION CONTACT: For non-legal issues, you may call Dr. William Fan, Office of Crashworthiness Standards, at (202) 366-4922, facsimile (202) 366-4329, electronic mail “bfan@nhtsa.dot.gov”

For legal issues, you may call Otto Matheke, Office of the Chief Counsel, at 202-366-5263.

SUPPLEMENTARY INFORMATION:

Table of Contents

I. Safety Problem

II. Background

A. August 1995 Final Rule on Upper Interior Impact Protection

B. April 1997 Final Rule

C. Petitions for Reconsideration

D. March 31, 1998 Letter

E. August 1998 Meeting

F. New Vehicle Configurations

III. Agency Proposal

A. Minimum Distance Between Tested Targets on Pillars

B. Pillar Surrogates

1. Door Frames

2. Seat Belt Mounting Structures

IV. Costs and Benefits

V. Effective Date

VI. Rulemaking Analyses and Notices

A. Regulatory Policies and Procedures

B. Executive Order 13132 (Federalism) and Unfunded Mandates Act

C. Executive Order 13045

D. Executive Order 12778

E. Regulatory Flexibility Act

F. National Environmental Policy Act

G. Paperwork Reduction Act

H. National Technology Transfer and Advancement Act

I. Unfunded Mandates Reform Act

J. Regulation Identifier Number (RIN)

VII. Submission and Availability of Comments

I. Safety Problem

In an August 18, 1995 final rule (60 FR 43031) adding requirements for upper interior impact protection to Standard No. 201, “Occupant Protection in Interior Impact,” NHTSA estimated that even with air bags installed in all passenger cars, trucks, buses, and multipurpose passenger vehicles (collectively, passenger cars and LTVs) with a gross vehicle weight rating (GVWR) of 4,536 kilograms (10,000 pounds) or less, head impacts with the pillars, roof side rails, windshield header, and rear header would result in 1,591 annual passenger car occupant fatalities and 575 annual LTV occupant fatalities. We also stated that we believed such head impacts also result in nearly 13,600 moderate to critical (but non-fatal) passenger car occupant injuries (MAIS 2 or greater), and more than 5,200 serious LTV occupant injuries. (The AIS or Abbreviated Injury Scale is used to rank injuries by level of severity. An AIS 1 injury is a minor one, while an AIS 6 injury is one that is currently untreatable and fatal. The Maximum Abbreviated Injury Scale or MAIS is the maximum injury per occupant.) In the August 18, 1995 final rule, we estimated that the new requirements would prevent 675 to 975 AIS 2-5 head injuries and 873 to 1,192 fatalities per year.

II. Background

A. August 1995 Final Rule on Upper Interior Impact Protection

The August 1995 final rule amended Standard No. 201 to require passenger cars and LTVs to provide protection when an occupant's head strikes upper interior components, including pillars, side rails, headers, and the roof, during a crash. This final rule, which required compliance beginning on September 1, 1998, significantly expanded the scope of Standard 201. Previously, the standard applied only to the portion of the vehicle interior in front of the front seat and the backs of the front seats.

B. April 1997 Final Rule

NHTSA received nine timely petitions for reconsideration of the August 1995 final rule. These petitions raised a number of issues, including: (1) Application of the new requirements to dynamic (i.e., crash-deployed) head protection systems, (2) variability of test results attributed to width of the drop test calibration corridor for the FMH, (3) lead time and phase-in, (4) exclusion of certain vehicles, and (5) test procedures. We considered dynamic head protection systems to be beyond the scope of the original rulemaking and addressed the petitions filed on this issue in a final rule published in the Federal Register in August 1998. The remaining issues were addressed through a final rule published on April 8, 1997 (62 FR 16718). The April 1997 final rule amended Standard 201 to establish another phase-in option, allow manufacturers to carry forward credits for vehicles certified to the new requirements prior to the beginning of the phase-in period, exclude buses with a GVWR of more than 3,860 kilograms (8,500 pounds), specify that all attachments to the upper interior components are to remain in place during compliance testing, and make some clarifying changes to the test procedure.

An area of concern considered in both the petitions for reconsideration and the April 8, 1997 final rule was the appropriate minimum distance between tested target areas within the same vehicle. S8.14(c) of the Standard provides that in the event that target areas are located in near proximity to each other, no test impact may occur within 150 mm (6 inches) of any other impact. This provision forbids testing of target areas that are so close together that the FMH would impact two or more targets in a single impact and that damage resulting from the one test impact may impair countermeasures located at the nearby target area. In the petitions submitted in response to the August 1995 rule, manufacturers argued that the 150mm (6 inches) distance provided in the Standard was inadequate, particularly in those instances in which the installed countermeasure did not use padding but relied on another means. However, because the petitioners did not submit any data substantiating their claim that the 150 mm (6 inches) distance was inadequate, NHTSA rejected their request to increase this distance when it issued the April 1997 final rule.

C. Petitions for Reconsideration

Petitions for reconsideration of the April 1997 final rule were filed by the American Automobile Manufacturers Association (AAMA) and ASC, Incorporated (ASC). ASC's petition expressed concerns about the impact of the final rule on the integrated convertible roof and frame designs and requested a further amendment to the definition of “convertible roof frame system.” AAMA's petition requested that NHTSA reconsider and modify the final rule in reference to approach angles, moveable side glazing, multiple impacts, the procedure for locating CG-F (a reference point corresponding to the location of a front seat occupant's head), and the definition of “forehead impact zone.”

In a notice published on April 22, 1998, ( 63 FR 19839) we denied these petitions for reconsideration. In regard to approach angles, NHTSA rejected AAMA's request for the exclusion of targets that cannot be tested using the existing approach angles contained in S8.13.4. We concluded that targets that cannot be tested using the existing approach angles can be relocated under the protocols found in S10(b) or S10(c). Thus, excluding the targets would not be necessary. We denied AAMA's request that hinges and latches for sunroofs and moveable side glazing be exempted from the 24 km/h (15 mph) test requirements, as we concluded that it was feasible to pad these components. The April 22 notice also explained that AAMA's concern regarding the location of CG-F had been resolved by an amendment to Standard 201 and that we believed that the organization's concerns about the proper definition of the forehead impact zone resulted from a misunderstanding of the terms of that definition. Accordingly, we declined to modify the definition.

The April 1998 notice also set forth our reasoning for rejecting AAMA's request that we reconsider our decision not to expand the minimum distance between two target areas. Without providing supporting test data, AAMA argued that the existing 150 mm (6 inches) distance was not sufficient because test damage to one target could affect the performance of a nearby target, depending on the type of countermeasure, the target location, the size of the target component, the approach angles used and the effects of chin loading on one target when another is struck. We rejected AAMA's arguments, explaining that we were satisfied that existing evidence showed that the 150 mm (6 inches) exclusion distance was adequate. As the maximum width of the FMH is 150 mm (6 inches) and the forehead impact zone on the FMH was smaller, we concluded that the existing difference was sufficient to prevent FMH impact overlap between targets. We also noted that Standard 201 allowed testing of targets on both the right and left side of the vehicle interior and that manufacturers could use this as an opportunity to ensure that target areas were much farther apart from each other than 150 mm (6 inches) when actual testing is performed.

AAMA also requested that we consider limiting impacts to one impact per component. Again, AAMA did not submit any data indicating that limiting tests to one impact per component was necessary. We therefore rejected this request because there were no test data indicating that such a limitation was realistic and necessary.

As noted below, AAMA forwarded a letter to NHTSA on March 31, 1998 which discussed several of the issues addressed in the agency's April 22, 1998 notice denying the AAMA and ASC petitions for reconsideration. As this letter arrived shortly before the agency issued the April 22, 1998 notice, the issues raised by AAMA in this letter were not considered or discussed in that notice. They are addressed below.

D. March 31, 1998 Letter

On March 31, 1998, AAMA forwarded a letter to the agency expressing concern about the laboratory test procedure for Standard 201. In order to provide guidance and assistance to agency contractors performing compliance tests, the agency produced laboratory test procedures outlining recommended practices for performing compliance tests for different safety standards. These test procedures are not surrogates for the safety standards—they are merely used by NHTSA to facilitate testing by its contractors.

AAMA expressed its belief that multiple impacts and chin contacts during Standard 201 testing using the laboratory test procedure could create uncertainty about the ability of certain countermeasures to meet the Standard. The letter included test data from testing on prototype countermeasures which, in AAMA's view, supported its contention that multiple impacts and chin contacts compromised the ability of countermeasures to perform adequately when adjacent target points were subject to successive impacts. AAMA requested that the agency's test procedure include a restriction on testing adjacent target points and should also contain a provision stating that any test failure should be carefully scrutinized to determine if and when chin contact occurred. If chin contact occurred, AAMA suggested that the test procedure require that the test be run again with the headform rotated to a new position where early chin contact would not occur.

E. August 1998 Meeting

On August 19, 1998, AAMA staff persons and representatives of AAMA member companies met with NHTSA officials to discuss ongoing concerns regarding test issues in Standard 201. These issues included multiple impacts on the same component, headform chin and cheek contact during HIC calculations, and window position during testing. In this meeting, AAMA members displayed samples of prototype A- and B-pillar trim pieces being developed to meet Standard 201. They also presented data generated from tests in which individual trim components were subjected to multiple impacts. The trim samples showed that instead of using padding as a countermeasure, AAMA members were developing energy absorbing plastic trim composed of conventional plastic trim with ribs on the reverse side. Test data submitted by Ford showed the results of a series of impacts on simulated pillar structures in which one test impact was followed by a second test impact 150 mm (6 inches) below the first. The trim used in these tests was constructed of plastic with a smooth facing and ribs cast into the backside. Data presented by Ford showed that trim that had been subjected to impacts at the upper location suffered a degradation in performance at the lower impact site ranging from 7.3 percent to 32.1 percent. On average, when a trim component equipped with countermeasures was tested at the lower location after an upper location of the same trim had been tested, the HIC scores were 19.2 percent higher than those resulting from impacts at the same point into identical trim components that had never been impacted. The Ford data also showed that the rib structures on the backside of the trim were deformed up to six inches below the impact area. Representatives of AAMA, AIAM, Chrysler, GM, Ford and Mitsubishi indicated that secondary impacts by the chin and lower portion of the FMH after primary impacts by the FMH forehead impaired the ability of target points on or near the secondary impact to meet the requirements of the Standard when subjected to testing.

F. New Vehicle Configurations

As light trucks continue to grow in popularity and consumers expect greater versatility from their vehicles, manufacturers are responding by introducing designs that differ from the traditional sedan. A number of manufacturers are now producing pickup trucks with 3- and 4-door designs which, unlike the established “crew cab” design, do not have pillars between doors. In these vehicles, the rearmost door is hinged at the rear rather than the front. The front and the rear door latch together without an intervening pillar. A similar design has also recently been introduced in a 3-door coupe manufactured by Saturn. If this design is successful in the marketplace, other passenger vehicles with this feature may appear in the future. In these vehicles, the frames of the two doors, when closed and latched, form a structure that presents a surface that may be viewed as the structural equivalent of a pillar. However, because these door frames are not pillars as defined in Standard 201, they are not subject to the requirements of the Standard.

We are also aware of other designs used in soft top light utility vehicles that involve the use of a vertical structure to provide an attachment point for the upper anchorage of a lap and shoulder belt. This structure, which must be relatively stiff in order to ensure the stability of the belt anchorage, is necessarily located near the head of the occupant of the seating position for which the belt is provided. However, because this structure does not support the roof of the vehicle and is not a stiffener or a roll bar, it does not, by definition, have any target areas that would be subject to the requirements of Standard 201.

We are concerned about the potential safety consequences of these new designs. Because these door frames and seat belt mounting structures do not fit within the existing definitions of “pillar,” “roll bar” or “stiffener” found in Standard 201, there are no target areas located on these structures and they need not meet the head impact protection criteria. However, these door frames and seat belt mounting structures provide the same potential for head injury as a pillar, roll bar, or stiffener.

III. Agency Proposal

After consideration of the issues raised by the petitions for reconsideration, the March 31, 1998 AAMA letter, and the information presented in the August 1998 meeting, the agency has decided to propose amendments to Standard 201 to modify the existing test procedure. The agency proposes to enlarge the minimum distance between pillar target areas to prevent testing to areas that suffered damage from an impact overlap from a previous test impact, and to include pillar surrogates within the standard. To address the former, we are proposing to amend S8.14 to add a 200 mm (8 inches) minimum spacing exclusion for certain vertically oriented target locations to prevent FMH impact overlap from earlier impacts impairing the performance of the vehicle when other target points are tested. To address the performance of newer vehicle designs with structures that are functionally equivalent to pillars, roll bars and braces, we are proposing to add new sections to S3 and S10 defining pillar surrogates and establishing procedures for locating target areas on those pillar surrogates.

A. Minimum Distance Between Tested Targets on Pillars

The head impact protection provisions of Standard 201 set minimum performance requirements for vehicle interiors by establishing target areas within the vehicle that must be properly padded or otherwise have energy absorbing properties to minimize head injury in the event of a crash. Compliance with these performance requirements is tested by launching the FMH within a specified angle range at either 18 km/h or 24 km/h (12 mph or 15 mph) at a specific target area. Target locations are identified through use of the procedures contained in S10 of the Standard. Some of these targets are located on vertically oriented surfaces such as the A-pillar (S10.1), B-Pillar (S10.2), rearmost pillar (S10.4) and, if they exist, other pillars (S10.3). Therefore, when the FMH is launched at a target area located on one of these pillars and the forehead impact area contacts the intended target, the chin or lower portions of the FMH may contact another target area lower on the same pillar.

As Standard 201 sets performance requirements for a number of points and areas within the vehicle, S8.14(a) provides that, subject to certain limitations, a vehicle being tested may be impacted multiple times. S8.14(b), which was included in the standard to allow sufficient time for resilient countermeasures to recover after impacts, provides that impacts within 300mm (12 inches) of each other may not occur less than 30 minutes apart. S8.14(c) specifies that no impact may occur within 150 mm (6 inches) of any other impact. The latter provision is intended to prevent damage caused by the overlap of one impact from impairing the performance of countermeasures for a nearby target in a second impact. The selection of the 150mm (6 inches) distance was based on the maximum width of the FMH.

The 150 mm (6 inches) distance currently in S8.14(c) does not, however, address the potential impact overlap damage caused by the height of the FMH rather than its width. Information and test data presented to the agency by AAMA and others indicate that contact between the lower portions of the FMH and target points below a test target on vertically oriented surfaces could substantially impair the performance of countermeasures on or near those lower target points. For vertical pillar targets, increasing the 150mm (6 inches) minimum spacing distance to 200 mm (8 inches) would, in our view, preclude impact overlap damage caused by impacts to target points below the intended target. Our belief is based on the fact that the characteristics of the principal structure of the FMH—the metal skull—are such that the lowest point of the device likely to contact the interior in a test, is less than 200 mm (8 inches) from any point within the forehead impact zone. As contact between the forehead impact zone and the intended target area is required in a valid test, the proposed 200 mm (8 inches) distance should be sufficient to ensure that target areas located in areas impacted by earlier tests will not be subject to testing.

We believe that this proposed spacing exclusion is consistent with our past actions in creating Standard 201. While we are concerned that multiple impacts can and will occur in the event of a crash, we have never required that a target point be subjected to multiple impacts or that targets located in or over an area already tested be tested again. As noted above, S8.14, which we inserted in Standard 201 after consideration of data developed using foam countermeasures, already provided that impacts may not occur within 150 mm (6 inches) of each other. Because we believed that resilient foam would be used to meet Standard 201's requirements, S8.14 also specifies that impacts located within 300 mm (12 inches) of each other may not occur less than 30 minutes apart. The proposal to create a similar exclusion for vertically oriented surface target locations less than 200 mm (8 inches) apart simply recognizes that materials other than resilient foam may be used to protect occupants and that these materials may perform differently while providing an equivalent level of safety.

The proposed exclusion would not result in any decrease in safety. We wish to emphasize that excluding target locations located on vertical components that are less than 200 mm (8 inches) apart does not mean that an excluded point will not be subject to testing. If, for example, the B-pillar target point known as BP2 is located within 200 mm (8 inches) of another B-pillar target location such as BP1, BP2 would be excluded only if the BP1 on the same side of the vehicle had been impacted in a test. Because pillar target locations are available on both sides of the vehicle, we believe that by alternately locating targets on opposite sides of the vehicle, all target locations are likely to be available for testing. In the event that target locations are so near to each other that the use of alternate sides of a vehicle does not provide access to all target locations, additional vehicles may be used for testing. Adoption of the proposed exclusion would therefore provide manufacturers with some assurance that target locations contacted by the FMH during a test of another location on the same side of the vehicle would not be subjected to a second impact. At the same time, we would retain the ability to test all pillar target points by using both sides of the vehicle for compliance tests.

B. Pillar Surrogates

The target location requirements currently specified in Standard 201 envision vehicles having more than one door on a side will also have a pillar between those doors. However, as noted above, there are a number of recent designs that do not conform to that expectation. These vehicles, including the Saturn 3-door coupe and pickup trucks with 3- and 4-door configurations, have more than one door on a side but do not have a pillar between the doors. In these designs, the door frames where the two doors meet are, from a safety standpoint, the equivalent of a pillar. The door frames are stiff like pillars and are located close to an occupant's head. If proper countermeasures are not provided on these structures, occupants of these vehicles would have less protection in a crash than those occupying more conventional vehicles. The agency is also aware of other vehicle designs in which stiff structures that are not pillars, roll bars, or braces are used as mounts for upper belt anchorages. Like the door frames discussed above, these structures provide the same safety risks for occupants as pillars do, but are not currently covered by the Standard.

1. Door Frames

We are proposing to add two new sections to S10 of Standard 201 that will specify target locations on frames of pairs of adjacent doors that are not separated by an intervening pillar. Specifying these target locations would necessitate the addition of definitions of “door frame” and “other door frame” to S3. The proposed definitions of “door frame” and “other door frame” encompass the structure rearward of the daylight opening of a forward door and the structure forward of the daylight opening of a rear door where the doors are adjacent side doors with opposing hinges that latch together without engaging or contacting an intervening pillar. As defined in the proposal, “door frame” is distinguished from “other door frame” by the relationship of each of these structures to other pillars. A “door frame” refers to the perimeter structure of doors located rearward of an A-pillar and forward of any other pillars, while “other door frame” refers to the perimeter structure of doors rearward of the B-pillar.

The proposed target location procedure for these door frames takes into account that seat belt anchorages may be located on these door frames and that the frames themselves are two structures. We are proposing that four targets be located on the door frames.

The first of these, which would be known as DF1, would be located in a fashion similar to that presently used for locating the B-Pillar target known as BP1. We propose that DF1 be located on a reference point, DFR. Under the proposal, DFR would be located on the vehicle interior at a point along the intersection of the interior roof surface and a transverse vertical plane tangent to the rear edge of the forward door when the adjacent rear door is in the open position. The location of DFR would be determined by finding the midpoint, along the intersection line, between the nearest edge of the upper roof and the point at which a horizontal plane passing through the highest point of the highest adjacent daylight opening intersects with the transverse vertical plane and the vehicle interior. We propose that the second door frame target, DF2, be located at any point on any seat belt anchorage located on the door frame. Target DF3 would be located on the interior surface of the door frame. As proposed, DF3 would be located in the horizontal plane midway between DFR and a horizontal plane passing through the lowest point of the lowest adjacent daylight opening and would be the point on the door frame that is closest to the head center of gravity of an occupant in the seating position whose seating reference point is immediately forward of the transverse vertical plane tangent to the rear edge of the forward door. To protect occupants in any seats whose seating reference point is immediately rearward of the transverse vertical plane tangent to the rear edge of the forward door, we are proposing to locate another target, DF4, at a point on the interior surface of the door frame. As proposed, DF4 would be located in the horizontal plane midway between DF3 and the horizontal plane passing through the lowest point of the lowest daylight opening of an adjacent door. DF 4 would be the point inside this plane that is closest to the head center of gravity of an occupant in the seat whose seating reference point is immediately rearward of the transverse vertical plane tangent to the rear edge of the forward door.

For “other door frame” targets, we are proposing a target location procedure similar to that already being used for the two existing other pillar targets. An “other door” reference point, ODR, is a point on a line formed by the intersection of the roof interior surface and a transverse vertical plane passing through the vertical center line of the width of the door frame, as viewed laterally with the doors closed, and is the midpoint between the nearest edge of the “upper roof” and the point at which a horizontal plane passing through the highest daylight opening of the adjacent door intersects with the vertical center line of the width of the door frame. If no seat belt anchorage is located on the door frame, ODR serves as target OD1. If a seat belt anchorage is located on the door frame, target OD1 is located on the anchorage. The second other door frame target, OD2, is located on the interior surface of the door frame inside the longitudinal horizontal plane midway between the horizontal planes passing through the ODR and the lowest points in the daylight openings of the door frames. As proposed, OD2 would be that point within this plane and on the vertical center line of the width of the door frame, as viewed laterally with the doors closed.

The proposed procedure for locating these target areas is intended to be similar to that used for locating B-pillar and other pillar targets. The same approach angles are specified for the door frame and other door frame targets as are currently employed for the B-pillars and other pillars. We also note that as is the case with the existing specifications for targets that are seat belt anchorages, the vertical approach angle specified for seat belt anchorages differs from that for other targets on the same pillar or door frame. The selection of the approach angle for anchorage targets reflects the agency's judgement that such angles are more appropriate for anchorages—which commonly project above the nominal surface of a pillar or door frame. Further, in specifying distinct approach angles for seat belt anchorages, NHTSA intends that the approach angles specified generally for pillars and door frames do not apply to anchorage targets.

We have tentatively concluded that these proposed target procedures are the most appropriate target locating procedures for door frames that are, from a safety perspective, similar to B-pillars and other pillars. Nonetheless, we may also consider alternative target location schemes, including simply providing that the entire interior surface of the door frame should be considered to be a target location. We also note that because the door frames are two separate components, that it may be appropriate to specify additional target locations to adequately ensure that both the front and the rear frames provide adequate protection, particularly in light of the fact that the present proposal does not locate any target on the rear door frame at the upper portion of the frame. Unlike the case of a B-pillar, the trim and the countermeasures on door frames will not be a single component, but two separate components. These separate components are, in our view, likely to be less susceptible to damage caused by other impacts. Therefore, we believe that the minimum distances between targets now specified in S8.14 as well as the current proposal to extend these distances for pillar targets may not be necessary in the case of door frames.

We request that those submitting comments in response to this proposal provide their views on the following issues: Is the proposed location procedure for DF1 appropriate? Are the proposed location procedures for the other door frame target locations appropriate? Should additional target locations be specified to assure the performance of countermeasures located in the rear door frame? Is the proposed definition of “door frame” appropriate?

2. Seat Belt Mounting Structures

Certain vehicle designs, particularly those with removable or convertible tops, may provide manufacturers with few options for mounting and locating upper anchorages for the shoulder portion of Type II safety belts. In those instances in which it is not possible or desirable to locate this upper anchorage on the seat itself and the particular design does not readily offer another mounting location, the manufacturer may choose to incorporate a dedicated structure into the vehicle to serve as the shoulder belt anchorage. If this structure, which by necessity must be stiff and relatively near the occupant served by the belt, does not fit within the definition of pillar, roll bar, or stiffener, currently contained in Standard 201, it need not meet the Standard's requirements.

We are proposing to amend S3 to include a definition of “Seat Belt Mounting Structure” and to amend S10 to add a new target location procedure for placing target areas on these structures. The proposed definition describes a “Seat Belt Mounting Structure” as follows:

Seat Belt Mounting Structure means a component of the vehicle body or frame, including trim, to which an upper seat belt anchorage conforming to the requirements of S4.2.1. and S4.3.2 of Standard No. 210 is attached. The term does not include a pillar, roll bar, brace or stiffener, side rail, seat, or part of the roof.

We tentatively conclude that this definition would provide adequate guidance to manufacturers in identifying which components are covered by the Standard.

We are proposing to locate three target areas on seat belt mounting structures in an effort to maintain consistency with the target locations for pillars. This is appropriate because, in the agency's view, pillars most closely approximate seat belt mounting structures in terms of safety and safety countermeasures. However, we are proposing that fewer target locations be specified for these structures than are presently specified for testing pillars. Our view is that manufacturers are likely only to use a purpose-built seat belt anchorage structure in those instances in which the design of the vehicle precludes more conventional alternatives such as the pillars or seat. We also believe that such structures are not likely to be integrated into roofs, which are usually not as rigid or strong as other areas of the vehicle such as the sides or floors. Therefore, our proposal does not call for locating any targets higher than the head center of gravity of occupants in nearby seating positions unless the seat belt anchorage itself is higher.

We propose that the first target point, known as SB1, be located on the seat belt anchorage attached to the seat belt mounting structure. The remaining two target points, SB2 and SB3, would be located in reference to the head CG of occupants nearest to the seat belt mount in question. We propose that target SB2 be the point on the nominal surface of the seat belt mounting structure that is closest to CG-F2 of the nearest front outboard designated seating position and is on the intersection of the seat belt mounting structure and the horizontal plane passing through that CG-F2. If the seating reference point of any rear outboard seating position is forward of the transverse vertical plane passing through the vertical center line of the seat belt mounting structure, SB2 would be the point that is closest to the CG-R nearest the seat belt mounting structure and is at the intersection of the seat belt mounting structure and the horizontal plane passing through that CG-R. The proposed location for SB3 is fixed in a similar fashion. SB3 is the point nearest to CG-R that is 225 mm (8.6 inches) below the intersection of the surface of the seat belt mounting structure and the horizontal plane passing through the CG-R of the designated seating position whose seating reference point is rearward of the transverse vertical plane passing through the vertical center line of the seat belt mounting structure.

The proposal also contains approach angles for the seat belt mounting structures that are similar to the approach angles currently employed for B-pillar targets. We have tentatively concluded that these approach angles are appropriate because the specification of single approach angle or a narrow range of approach angles would preclude testing of the proposed target areas. We also note that, as is the case with the existing specifications for targets that are seat belt anchorages, the vertical approach angle specified for seat belt anchorages differs from that for other targets on the seat belt mounting structure. It is the agency's judgement that such angles are more appropriate for anchorages—which commonly project above the nominal surface of a seat belt mounting structure. Further, in specifying an approach angle for anchorage targets, it is the agency's intention that the approach angles specified generally for pillars and door frames do not apply to anchorage targets.

While the location of the seat belt anchorage attached to such a structure will be fixed, to some extent, by the requirements of Standard 210, Seat Belt Assembly Anchorages, the remaining characteristics of such structures are not well known. Since the ability to test target areas on seat belt mounting structures may be limited by their configuration, i.e., the ability to properly strike a target area with the forehead impact zone of the FMH, we tentatively conclude that specifying a range of approach angles is in the best interest of safety.

We also tentatively conclude that the definition of a seat belt mounting structure allows identification of the target locations and that the proposed target locations are both appropriate and readily identified. However, we ask for comments on the definition and its utility. Comments on the proposed location of the targets and the procedure used to locate them would also, in our view, assist us in formulating an appropriate final rule.

IV. Costs and Benefits

The proposed amendments would change performance requirements, test procedures and revise definitions to include structures that are the equivalents to the pillars that are already subject to Standard 201's requirements. Because these structures, door frames and seat belt mounting structures, are very similar in design, construction and location to existing pillars, we have decided that the cost and benefit methodology prepared for the August 1995 final rule will not change. The four proposed door frame target points are substitutes for the existing four B-pillar targets points that would be located on the B-pillar that the door frames replace. Similarly, the three proposed seat belt mounting structure target points would be in-place of, rather than in addition to, existing targets such as those located on the rear pillar (RP1, RP2), rear header (RH) and rear side rail (SR3) target points not present in some soft top sport utility vehicles.

Based on data in the June 1995 Final Economic Assessment on Upper Interior Head Protection, it is estimated that the cost of padding the two B-pillars of a passenger car and light truck would be $5.80/vehicle and $9.71/vehicle, respectively. This is the cost of the padding material countermeasure. Adjusting these figures to 1998 values and for the slightly greater amount of padding that would be needed for LTVs, the average cost per vehicle is estimated to be not more than $6 per vehicle for 3-door passenger cars similar to the 3 door Saturn sedan and $10 per 4-door crew cab LTV. A 3 door crew cab LTV would already have one padded B-pillar so costs would be less, possibly as low as $5 per vehicle. For soft top sport utility vehicles with 3 newly target points per vertical belt mounting structure, the cost per vehicle would be less than that required to install countermeasures on two B-pillars—approximately $6-$10 per vehicle.

The addition of the proposed new door frame and seat belt mounting structure targets would, in our view, not require further benefits analysis. Our original June 1995 Final Economic Assessment did not envision pillarless designs such as 3-door coupes, crew cab LTVs or soft top LTVs with seat belt mounting structures as being part of the U.S. vehicle fleet. The overall cost/benefit calculations performed in that assessment assumed that all vehicles had conventional pillars, roll bars, or stiffeners. The current proposal brings vehicles without conventional pillars, roll bars, or stiffeners within the scope of Standard 201 and, as noted above, at approximately the same cost as other vehicles. Therefore, our earlier benefits analysis is merely brought up to date by the inclusion of these vehicles in Standard 201.

V. Effective Date

The agency is proposing that the final rule become effective 180 days after it is published.

VI. Rulemaking Analyses and Notices

A. Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the impact of this rulemaking action under Executive Order 12866 and the Department of Transportation's regulatory policies and procedures. This rulemaking document was not reviewed by the Office of Management and Budget under E.O. 12866. It is also not considered to be significant under the Department's Regulatory Policies and Procedures (44 FR 11034; February 26, 1979).

This document proposes to amend 49 CFR part 571.201 by modifying existing test procedures to increase the minimum distance between tested targets. It would also specify targets on certain door frames and seat belt mounting structures not previously covered by the Standard. The agency notes that these structures, i.e., door frames and freestanding seat belt mounting structures, are surrogates for pillars and are not, to NHTSA's knowledge, present in vehicles with more conventional configurations. In particular, seat belt mounting structures appear to be used only in soft top vehicles where no roof structure, pillars (except the A pillar), roll bars or stiffeners exist.

The agency's previous economic analysis was based on the assumption that all vehicles would have conventional pillar layouts. As a result of that assumption, vehicles that actually had pillar surrogates were mistakenly included in that analysis and were treated, for the purpose of estimating costs, as though they had conventional pillar layouts. The number of pillars that these vehicles were assumed to have is the same as the total number of pillars and pillar surrogates that they actually have.

The agency has tentatively concluded that the costs of installing countermeasures on these pillar surrogates will not differ appreciably from installing the same countermeasures on pillars. Thus, despite the erroneous assumptions, the previous economic analysis correctly estimated the compliance costs for vehicles with pillar surrogates, and included those costs in the overall estimate of the costs of the upper interior head protection requirements. Since the economic costs of extending those requirements to vehicles with surrogate pillars have already been accounted for, we believe that the economic impacts of this proposal do not warrant further regulatory evaluation.

B. Executive Order 13132 (Federalism) and Unfunded Mandates Act

The agency has analyzed this rulemaking action in accordance with the principles and criteria set forth in Executive Order 13132. NHTSA has determined that the amendment does not have sufficient federalism implications to warrant application of the requirements of section 6 of the Executive Order to this rule.

C. Executive Order 13045

Executive Order 13045 (62 FR 19885, April 23, 1997) applies to any rule that: (1) is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This rule is not subject to the Executive Order because it is not economically significant as defined in E.O. 12866 and does not involve decisions based on environmental, safety or health risks having a disproportionate impact on children.

D. Executive Order 12778

Pursuant to Executive Order 12778, “Civil Justice Reform,” we have considered whether this proposed rule would have any retroactive effect. We conclude that it would not have such effect. Under 49 U.S.C. 30103, whenever a Federal motor vehicle safety standard is in effect, a State may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

E. Regulatory Flexibility Act

Pursuant to the Regulatory Flexibility Act (5 U.S.C. 601 et seq., as amended by the Small Business Regulatory Enforcement Fairness Act (SBREFA) of 1996) whenever an agency is required to publish a notice of rulemaking for any proposed or final rule, it must prepare and make available for public comment a regulatory flexibility analysis that describes the effect of the rule on small entities (i.e., small businesses, small organizations, and small governmental jurisdictions). However, no regulatory flexibility analysis is required if the head of an agency certifies the rule will not have a significant economic impact on a substantial number of small entities. SBREFA amended the Regulatory Flexibility Act to require Federal agencies to provide a statement of the factual basis for certifying that a rule will not have a significant economic impact on a substantial number of small entities.

The Administrator has considered the effects of this rulemaking action under the Regulatory Flexibility Act (5 U.S.C. § 601 et seq.) and certifies that this proposal would not have a significant economic impact on a substantial number of small entities. We estimate that there are at most five small manufacturers of passenger cars in the U.S., producing a combined total of at most 500 cars each year. We do not believe small businesses manufacture even 0.1 percent of total U.S. passenger car and light truck production each year.

The primary cost effect of the proposed requirements would be on manufacturers of passenger cars and LTVs. Final stage manufacturers, those who use incomplete vehicles produced by larger manufacturers to produce specialty products, are generally small businesses. However, NHTSA believes that the proposed requirements would not be burdensome for final stage manufacturers. The amendments proposed in this rulemaking impose additional mandatory requirements only on those vehicles with specific door configurations or specialized seat belt mounting structures. We note that vehicles with these configurations presently represent only a small percentage of annual production. Further, a final stage manufacturer could test, or could sponsor a test, of a padded component outside of the vehicle on a test fixture, to the extent such testing may be needed to support certification. Manufacturer associations could also sponsor generic tests to determine the amount and type of padding or design needed for basic structures that would be used by a number of final stage manufacturers, to reduce certification costs.

Other entities which would qualify as small businesses, small organizations and governmental units would be affected by this rule to the extent that they purchase passenger cars and LTVs. They would not be significantly affected, since the potential cost increases associated with this action should only slightly affect the purchase price of new motor vehicles. Accordingly, the agency has not prepared a preliminary regulatory flexibility analysis.

F. National Environmental Policy Act

We have analyzed this proposed amendment for the purposes of the National Environmental Policy Act and determined that it would not have any significant impact on the quality of the human environment.

G. Paperwork Reduction Act

Under the Paperwork Reduction Act of 1995, a person is not required to respond to a collection of information by a Federal agency unless the collection displays a valid OMB control number. This proposal does not propose any new information collection requirements.

H. National Technology Transfer And Advancement Act

Section 12(d) of the National Technology Transfer and Advancement Act of 1995 (NTTAA), Public Law 104-113, section 12(d) (15 U.S.C. 272) directs us to use voluntary consensus standards in its regulatory activities unless doing so would be inconsistent with applicable law or otherwise impractical. Voluntary consensus standards are technical standards (e.g., materials specifications, test methods, sampling procedures, and business practices) that are developed or adopted by voluntary consensus standards bodies. The NTTAA directs us to provide Congress, through OMB, explanations when we decide not to use available and applicable voluntary consensus standards. We note that there are no available voluntary consensus standards that are equivalent to Standard 201.

I. Unfunded Mandates Reform Act

Section 202 of the Unfunded Mandates Reform Act of 1995 (UMRA) requires Federal agencies to prepare a written assessment of the costs, benefits and other effects of proposed or final rules that include a Federal mandate likely to result in the expenditure by State, local or tribal governments, in the aggregate, or by the private sector, of more than $100 million in any one year (adjusted for inflation with base year of 1995). Before promulgating a NHTSA rule for which a written statement is needed, section 205 of the UMRA generally requires us to identify and consider a reasonable number of regulatory alternatives and adopt the least costly, most cost-effective or least burdensome alternative that achieves the objectives of the rule. The provisions of section 205 do not apply when they are inconsistent with applicable law. Moreover, section 205 allows us to adopt an alternative other than the least costly, most cost-effective or least burdensome alternative if we publish with the final rule an explanation why that alternative was not adopted.

This proposal would not result in costs of $100 million or more to either State, local, or tribal governments, in the aggregate, or to the private sector. Thus, this proposal is not subject to the requirements of sections 202 and 205 of the UMRA.

J. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

VII. Submission and Availability of Comments

How Do I Prepare and Submit Comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit two copies of your comments, including the attachments, to Docket Management at the address given above under ADDRESS.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESS. When you send a comment containing information claimed to be confidential business information, you should include a cover letter setting forth the information specified in our confidential business information regulation. (49 CFR Part 512.)

Will the Agency Consider Late Comments?

We will consider all comments that Docket Management receives before the close of business on the comment closing date indicated above under DATES. To the extent possible, we will also consider comments that Docket Management receives after that date. If Docket Management receives a comment too late for us to consider it in developing a final rule (assuming that one is issued), we will consider that comment as an informal suggestion for future rulemaking action.

How Can I Read the Comments Submitted by Other People?

You may read the comments received by Docket Management at the address given above under ADDRESS. The hours of the Docket are indicated above in the same location.

You may also see the comments on the Internet. To read the comments on the Internet, take the following steps:

A. Go to the Docket Management System (DMS) Web page of the Department of Transportation (http://dms.dot.gov/).

B. On that page, click on “search.”

C. On the next page (http://dms.dot.gov/search/), type in the last four digits of the docket number shown at the beginning of this document. Example: If the docket number were “NHTSA-1998-1234,” you would type “1234.” After typing the docket number, click on “search.”

D. On the next page, which contains docket index and summary information for the docket you selected, click on the desired comments. You may view or download the comments. However, since the comments are imaged documents, instead of word processing documents, the downloaded comments are not word searchable.

Please note that even after the comment closing date, we will continue to file relevant information in the Docket as it becomes available. Further, some people may submit late comments. Accordingly, we recommend that you periodically check the Docket for new material.

List of Subjects in 49 CFR Part 571

Imports, Motor vehicle safety, Motor vehicles, Rubber and rubber products, Tires.

In consideration of the foregoing, 49 CFR part 571 would be amended as follows:

PART 571—[AMENDED]

1. The authority citation for part 571 would continue to read as follows:

Authority: 49 U.S.C. 322, 21411, 21415, 21417, and 21466; delegation of authority at 49 CFR 1.50.

2. Section 571.201 would be amended by adding, in alphabetical order, definitions of Door Frame and Seat Belt Mounting Structure to S3; by revising S8.13.4, S8.13.4.2(b)(2), S8.14, and S10(a) through (b); and by adding S8.13.4.1(e) through (h), S10.14, S10.15 and S10.16 to read as follows:

S3. * * *

* * * * *

Door Frame means the rearmost perimeter structure, including trim but excluding glass, of the forward door and the forwardmost perimeter structure, including trim but excluding glass, of the rear door of a pair of adjacent side doors that:

(a) Have opposing hinges;

(b) Latch together without engaging or contacting an intervening pillar;

(c) Are forward of any pillar other than the A-pillar on the same side of the vehicle; and

(d) are rearward of the A pillar.

* * * * *

Other Door Frame means the rearmost perimeter structure, including trim but excluding glass, of the forward door and the forwardmost perimeter structure, including trim but excluding glass, of the rear door of a pair of adjacent side doors that:

(a) Have opposing hinges;

(b) Latch together without engaging or contacting an intervening pillar; and

(c) Are rearward of the B-pillar.

* * * * *

Seat Belt Mounting Structure means a component of the vehicle body or frame, including trim, that has an upper seat belt anchorage conforming to the requirements of S4.2.1. and S4.3.2 of Standard No. 210 attached to it and that is not a pillar, roll bar, brace or stiffener, side rail, seat, or part of the roof.

* * * * *

S8.13.4 Approach Angles. The headform launching angle is as specified in Table 1. For components for which Table 1 specifies a range of angles, the headform launching angle is within the limits determined using the procedures specified in S8.13.4.1 and S8.13.4.2, and within the range specified in Table 1, using the orthogonal reference system specified in S9.

Table 1.—Approach Angle Limits
[In degrees]
Target component | Horizontal angle | Vertical angle
Front Header | 180 | 0-50
Rear Header | 0 or 360 | 0-50
Left Side Rail | 270 | 0-50
Right Side Rail | 90 | 0-50
Left Sliding Door Track | 270 | 0-50
Right Sliding Door Track | 90 | 0-50
Left A-Pillar | 195-255 | −5-50
Right A-Pillar | 105-165 | −5-50
Left B-Pillar | 195-345 | −10-50
Right B-Pillar | 15-165 | −10-50
Left Door Frame | 195-345 | −10-50
Right Door Frame | 15-165 | −10-50
Other Left Pillars | 270 | −10-50
Other Right Pillars | 90 | −10-50
Other Left Door Frame | 270 | −10-50
Other Right Door Frame | 90 | −10-50
Left Rearmost Pillar | 270-345 | −10-50
Right Rearmost Pillar | 15-90 | −10-50
Upper Roof | Any | 0-50
Overhead Rollbar | 0 or 180 | 0-50
Brace or Stiffener | 90 or 270 | 0-50
Left Seat Belt Mounting Structure | 195-345 | −10-50
Right Seat Belt Mounting Structure | 15-165 | −10-50
Seat Belt Anchorages | Any | 0-50

* * * * *

S8.13.4.1 Horizontal approach angles for headform impacts.

* * * * *

(e) Left door frame horizontal approach angles.

(1) Locate a line formed by the shortest horizontal distance between CG-F2 for the left seat and the left door frame. The maximum horizontal approach angle for the left door frame equals the angle formed by that line and the X-axis of the vehicle measured counterclockwise, or 270 degrees, whichever is greater.

(2) Locate a line formed by the shortest horizontal distance between CG-R for the left seat and the left door frame. The minimum horizontal approach angle for the left door frame equals the angle formed by that line and the X-axis of the vehicle measured counterclockwise.

(f) Right door frame horizontal approach angles.

(1) Locate a line formed by the shortest horizontal distance between CG-F2 for the right seat and the right door frame. The minimum horizontal approach angle for the right door frame equals the angle formed by that line and the X-axis of the vehicle measured counterclockwise, or 90 degrees, whichever is less.

(2) Locate a line formed by the shortest horizontal distance between CG-R for the right seat and the right door frame. The maximum horizontal approach angle for the right door frame equals the angle between that line and the X-axis of the vehicle measured counterclockwise

(g) Left seat belt mounting structure horizontal approach angles.

(1) Locate a line formed by the shortest horizontal distance between CG-F2 for the left seat and the left seat belt mounting structure. The maximum horizontal approach angle for the left seat belt mounting structure equals the angle formed by that line and the X-axis of the vehicle measured counterclockwise, or 270 degrees, whichever is greater.

(2) Locate a line formed by the shortest horizontal distance between CG-R for the left seat and the left seat belt mounting structure. The minimum horizontal approach angle for the left seat belt mounting structure equals the angle formed by that line and the X-axis of the vehicle measured counterclockwise.

(h) Right seat belt mounting structure horizontal approach angles.

(1) Locate a line formed by the shortest horizontal distance between CG-F2 for the right seat and the right seat belt mounting structure. The minimum horizontal approach angle for the right seat belt mounting structure equals the angle formed by that line and the X-axis of the vehicle measured counterclockwise, or 90 degrees, whichever is less.

(2) Locate a line formed by the shortest horizontal distance between CG-R for the right seat and the right seat belt mounting structure. The maximum horizontal approach angle for the right seat belt mounting structure equals the angle between that line and the X-axis of the vehicle measured counterclockwise

S8.13.4.2 Vertical approach angles.

* * * * *

(b) * * *

(2) For all pillars except A-pillars and all door frames and seat belt mounting structures, keeping the forehead impact zone in contact with the target, rotate the FMH downward by 10 degrees for each target to determine the maximum vertical angle.

S8.14 Multiple impacts.

(a) A vehicle being tested may be impacted multiple times, subject to the limitations in S8.14(b), (c) and (d).

(b) As measured as provided in S8.14(e), impacts within 300 mm of each other may not occur less than 30 minutes apart.

(c) As measured as provided in S8.14(e), no impact may occur within 150 mm of any other impact.

(d) As measured as provided in S8.14(e), no impact on any pillar or vertical component of a roll bar, brace, stiffener, door frame or seat belt mounting structure may occur within 200 mm of any other impact.

(e) For S8.14(b), S8.14(c), and S8.14(d), the distance between impacts is the distance between the centers of the target circle specified in S8.11 for each impact, measured along the vehicle interior.

* * * * *

S10 * * *

(a) The target locations specified in S10.1 through S10.16 are located on both sides of the vehicle and, except as specified in S10(b), are determined using the procedures specified in those paragraphs.

(b) Except as specified in S10(c), if there is no combination of horizontal and vertical angles specified in S8.13.4 at which the forehead impact zone of the free motion headform can contact one of the targets located using the procedures in S10.1 through S10.16, the center of that target is moved to any location within a sphere with a radius of 25 mm, centered on the center of the original target, which the forehead impact zone can contact at one or more combination of angles.

* * * * *

S10.14 Door frame targets.

(a) Target DF 1. Locate the point (Point 21) on the vehicle interior at the intersection of the horizontal plane passing through the highest point of the forward door opening and a transverse vertical plane (Plane 32 ) tangent to the rearmost edge of the forward door, as viewed laterally with the adjacent door open. Locate the point (Point 22) at the intersection of the interior roof surface, Plane 32, and the plane, described in S8.15(h), defining the nearest edge of the upper roof. The door frame reference point (Point DFR) is the point located at the middle of the line from Point 21 to Point 22 in Plane 32, measured along the vehicle interior surface. Target DF1 is located at Point DFR.

(b) Target DF2. If a seat belt anchorage is located on the door frame, Target DF2 is located at any point on the anchorage.

(c) Target DF3. Locate a horizontal plane (Plane 33) which intersects Point DFR. Locate a horizontal plane (Plane 34) which passes through the lowest point of the adjacent daylight opening forward of the door frame. Locate a horizontal plane (Plane 35) half-way between Plane 33 and Plane 34. Target DF3 is the point located in Plane 35 and on the interior surface of the door frame, which is closest to CG-F2 for the nearest seating position.

(d) Target DF4. Locate a horizontal plane (Plane 36) half-way between Plane 34 and Plane 35. Target DF4 is the point located in Plane 36 and on the interior surface of the door frame which is closest to CG-R for the nearest seating position.

S10.15 Other door frame targets.

(a) Target OD1.

(1) Except as provided in S10.15(a)(2), target OD1 is located in accordance with this paragraph. Locate the point (Point 23), on the vehicle interior, at the intersection of the horizontal plane through the highest point of the highest adjacent door opening or daylight opening (if there is no adjacent door opening) and the center line of the width of the other door frame, as viewed laterally with the doors in the closed position. Locate a transverse vertical plane (Plane 37) passing through Point 23. Locate the point (Point 24) at the intersection of the interior roof surface, Plane 37 and the plane, described in S8.15(h), defining the nearest edge of the upper roof. The other door frame reference point (Point ODR) is the point located at the middle of the line between Point 23 and Point 24 in Plane 37, measured along the vehicle interior surface. Target OD1 is located at Point ODR.

(2) If a seat belt anchorage is located on the door frame, Target OD1 is any point on the anchorage.

(b) Target OD2. Locate the horizontal plane (Plane 38) intersecting Point ODR. Locate a horizontal plane (Plane 39) passing through the lowest point of the daylight opening forward of the door frame. Locate a horizontal plane (Plane 40) half-way between Plane 38 and Plane 39. Target OD2 is the point located on the interior surface of the door frame at the intersection of Plane 40 and the center line of the width of the door frames, as viewed laterally, with the doors in the closed position.

S10.16 Seat belt mounting structure targets.

(a) Target SB1. Target SB1 is located at any point on the seat belt anchorage mounted on the seat belt mounting structure.

(b) Target SB2. Locate a horizontal plane (Plane 41), containing either CG-F2 or CG-R, as appropriate, for any outboard designated seating position whose seating reference point, SgRP, is forward of and closest to, the vertical center line of the width of the seat belt mounting structure as viewed laterally. Target SB2 is located on the seat belt mounting structure and in Plane 41 at the location closest to either CG-F2 or CG-R, as appropriate.

(c) Target SB3. Locate a horizontal plane (Plane 42), containing CG-R for any outboard designated seating position rearward of the forwardmost designated seating position or positions whose seating reference point, SgRP, is rearward of and closest to, the vertical center line of the width of the seat belt mounting structure, as viewed laterally. Measuring along the nominal surface of the seat belt mounting structure locate a horizontal plane (plane 43) 225 mm below Plane 42. Target SB2 is located on the seat belt mounting structure and in Plane 43 at the location closest to CG-R, as appropriate.

* * * * *

Issued on March 28, 2000.
Stephen R. Kratzke,
Acting Associate Administrator for Safety Performance Standards.

[FR Doc. 00-8008 Filed 4-4-00; 8:45 am]

BILLING CODE 4910-59-P